DEPARTMENT OF COMMERCE

National Oceanic and Atmospheric Administration

RIN 0648-XC518

Endangered Species; File No. 17506

AGENCY: National Marine Fisheries Service (NMFS), National Oceanic and Atmospheric Administration (NOAA), Commerce.

ACTION: Notice; receipt of application.

SUMMARY: Notice is hereby given that Karen G. Holloway-Adkins, East Coast Biologists, Inc. P.O. Box 33715, Indialantic, FL 32903, has applied in due form for a permit to take green (Chelonia mydas), loggerhead (Caretta caretta), hawksbill (Eretmochelys imbricata), Kemp's ridley (Lepidochelys kempii), and leatherback (Dermochelys coriaceae) sea turtles for purposes of scientific research.

DATES: Written, telefaxed, or email comments must be received on or before April 1, 2013.

ADDRESSES: The application and related documents are available for review by selecting “Records Open for Public Comment” from the Features box on the Applications and Permits for Protected Species (APPS) home page, https://apps.nmfs.noaa.gov, and then selecting File No. 17506 from the list of available applications.

These documents are also available upon written request or by appointment in the following offices:

Permits and Conservation Division, Office of Protected Resources, NMFS, 1315 East-West Highway, Room 13705, Silver Spring, MD 20910; phone (301)427-8401; fax (301)713-0376; and

Southeast Region, NMFS, 263 13th Avenue South, Saint Petersburg, FL 33701; phone (727)824-5312; fax (727)824-5309.

Written comments on this application should be submitted to the Chief, Permits and Conservation Division:

• By email to NMFS.Pr1Comments@noaa.gov (include the File No. in the subject line of the email),

• By facsimile to (301)713-0376, or

• At the address listed above.

Those individuals requesting a public hearing should submit a written request to the Chief, Permits and Conservation Division at the address listed above. The request should set forth the specific reasons why a hearing on this application would be appropriate.

FOR FURTHER INFORMATION CONTACT: Amy Hapeman or Colette Cairns, (301)427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a 5-year research permit to continue to characterize the population of sea turtles that utilize the nearshore hard bottom reefs in Brevard County, FL. Up to 50 green and six loggerhead sea turtles would be tangle netted, dip netted or hand-captured annually. Captured sea turtles would be flipper and passive integrated transponder tagged, measured, weighed, tissue and blood sampled and photographed. Foraging samples would be collected by lavage from 25 of the green sea turtles annually. Each year up to 15 of the juvenile green sea turtles would have an acoustic transmitter attached to the carapace for tracking movements. In addition to captures, green, loggerhead, hawksbill, Kemp's ridley, and leatherback sea turtles would be counted during vessel surveys in the nearshore waters of Florida and Georgia.

Dated: February 20, 2013.
P. Michael Payne,
Chief, Permits and Conservation Division, Office of Protected Resources, National Marine Fisheries Service.

[FR Doc. 2013-04404 Filed 2-27-13; 8:45 am]

BILLING CODE 3510-22-P\